NUCLEAR REGULATORY COMMISSION

[Docket No. 030-32660; License No. 45-24851-02; EA-98-213]

In the Matter of Moisture Protection Systems Analysts, Inc. Washington, D.C.; Order Imposing Civil Monetary Penalty

I

Moisture Protection Systems Analysts, Inc. (the Licensee or MPSA), 1350 Beverly Road, Suite 223, McLean, Virginia 22101, formerly was the holder of Byproduct Materials License No. 45-24851-02 (the license), which was issued by the Nuclear Regulatory Commission (NRC or Commission) pursuant to 10 CFR Part 30 on January 30, 1992. The license authorized MPSA to possess byproduct material, i.e., a Siemens Model R-50 portable roofing gauge that contains a nominal 40 millicuries (mCi) of Americium-241, for use in measuring moisture density of roof surfaces in accordance with the conditions specified in the license. On February 3, 1997, the NRC attempted to inspect MPSA's facilities at 1350 Beverly Road, Suite 223, McLean, Virginia, 22101, the address listed on MPSA's license. At that time, the inspector learned that MPSA had vacated the premises in December, 1996, without prior notice to the NRC. The inspector was provided with a forwarding address for MPSA of 2811 12th Street, N.W., Washington, D.C., 20017-2402. NRC representatives subsequently made numerous unsuccessful attempts to contact MPSA by telephone and to inspect the premises at the forwarding address. On February 27 1997, the NRC issued an Order Suspending License (Effective Immediately) to MPSA based upon non-payment of annual fees required pursuant to 10 CFR 171.16. The Order was reissued on May 15, 1997.

II

On April 30, 1998, the NRC issued a “Notice of Violation and Proposed Imposition of Civil Penalty—$5,500, Notification of Consideration of the Imposition of Daily Civil Penalties, and Order Modifying Order Suspending License (Effective Immediately) and Order Revoking License (Notice),” to MPSA. The Notice described a violation of NRC requirements identified as a result of the NRC's review of the circumstances associated with attempts to perform an inspection of MPSA's material, facilities, and records. The Notice stated the nature of the violation, the provision of the NRC's requirements that MPSA had violated, and the amount of the civil penalty proposed for the violation.

MPSA has not responded to the Notice, nor has it complied with the requirements of the Order that it maintain the licensed material in safe storage, immediately notify the NRC of its current business location and the status of the licensed material, test the sealed source for leak tightness, and transfer the licensed material to an authorized recipient within 30 days of the date of the Order. The NRC has made numerous additional attempts to contact MPSA, including issuing two subpoenas to Mr. Virgil J. Hood, Sr., Radiation Safety Officer and President of MPSA and Mr. Virgil J. Hood, Jr., Vice President of MPSA, compelling their appearance for interviews at NRC headquarters on September 16, 1998, and December 3, 1999. The President and Vice President failed to appear for these interviews, and have been unresponsive to repeated attempts to discuss licensed activities associated with MPSA.

III

After consideration of MPSA's unresponsiveness, the NRC staff has determined that the violation occurred as stated and that the penalty proposed for the violation designated in the Notice should be imposed.

IV

In view of the foregoing and pursuant to Section 234 of the Atomic Energy Act of 1954, as amended (Act), 42 U.S.C. 2282, and 10 CFR 2.205, It Is Hereby Ordered That:

MPSA pay a civil penalty in the amount of $5,500 within 30 days of the date of this Order, in accordance with NUREG/BR-0254. In addition, at the time of making the payment, MPSA shall submit a statement indicating when and by what method payment was made, to the Nuclear Regulatory Commission, One White Flint North, 11555 Rockville Pike, Rockville, MD 20852-2738.

V

MPSA may request a hearing within 30 days of the date of this Order. Where good cause is shown, consideration will be given to extending the time to request a hearing.

A request for extension of time must be made in writing to the Director, Office of Enforcement, U.S. Nuclear Regulatory Commission, Washington, DC 20555, and include a statement of good cause for the extension. A request for a hearing should be clearly marked as a “Request for an Enforcement Hearing” and shall be submitted to the Secretary, U.S. Nuclear Regulatory Commission, ATTN: Rulemakings and Adjudications Staff, Washington, DC 20555. Copies also shall be sent to the Director, Office of Enforcement, U.S. Nuclear Regulatory Commission, Washington, DC 20555, to the Assistant General Counsel for Materials Litigation and Enforcement at the same address, and to the Regional Administrator, NRC Region II, 61 Forsyth Street, SW, Suite 23T85, Atlanta, Georgia, 30303-8931.

If a hearing is requested, the Commission will issue an Order designating the time and place of the hearing. If MPSA fails to request a hearing within 30 days of the date of this Order (or if written approval of an extension of time in which to request a hearing has not been granted), the provisions of this Order shall be effective without further proceedings. If payment has not been made by that time, the matter may be referred to the Attorney General for collection.

In the event MPSA requests a hearing as provided above, the issues to be considered at such hearing shall be:

(a) Whether MPSA was in violation of the Commission's requirements as set forth in the Notice referenced in Section II above, and

(b) Whether, on the basis of such violation, this Order should be sustained.

Dated this 2nd day of April 2001.
For the Nuclear Regulatory Commission.
Frank J. Congel,
Director, Office of Enforcement.

[FR Doc. 01-8888 Filed 4-10-01; 8:45 am]

BILLING CODE 7590-01-P